OFFICE OF PERSONNEL MANAGEMENT

Submission for OMB Review; Comment Request for Reclearance of a Revised Information Collection: SF 2802 and SF 2802B

AGENCY: Office of Personnel Management.

ACTION: Notice.

SUMMARY: In accordance with the Paperwork Reduction Act of 1995 (Public Law 104-13, May 22, 1995), this notice announces that the Office of Personnel Management (OPM) has submitted to the Office of Management and Budget (OMB) a request for reclearance of a revised information collection. SF 2802, Application for Refund of Retirement Deductions (Civil Service Retirement System), is used to support the payment of monies from the Retirement Fund. It identifies the applicant for refund of retirement contributions. SF 2802B, Current/Former Spouse's Notification of Application for Refund of Retirement Deductions, is used to comply with the legal requirement that any spouse or former spouse of the applicant has been notified that the former employee is applying for a refund.

Approximately 32,100 SF 2802 forms are completed annually. We estimate it takes approximately 45 minutes to complete the form. The annual burden is 24,075 hours. Approximately 28,890 SF 2802B forms are processed annually. We estimate it takes approximately 15 minutes to complete this form. The annual burden is 7,223 hours. The total annual burden is 31,298 hours.

For copies of this proposal, contact Mary Beth Smith-Toomey on (202) 606-8358, or email to mbtoomey@opm.gov.

DATES: Comments on this proposal should be received on or before July 12, 2001.

ADDRESSES: Send or deliver comments to—

Ronald W. Melton, Chief, Operations Support Division, Retirement and Insurance Service, U.S. Office of Personnel Management, 1900 E Street, NW, Room 3349A, Washington, DC 20415-3540, and

Joseph Lackey, OPM Desk Officer, Office of Information & Regulatory Affairs, Office of Management and Budget, New Executive Office Building, NW., Room 10235, Washington, DC 20503.

For Information Regarding Administrative Coordination— Contact: Donna G. Lease, Team Leader, Budget and Administrative Services Division, Forms Analysis and Design, (202) 606-0623.

U.S. Office of Personnel Management.
Steven R. Cohen,
Acting Director.

[FR Doc. 01-14711 Filed 6-11-01; 8:45 am]

BILLING CODE 6325-50-P